FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—12/17/2007
20080293 | United Stationers, Inc | Brazos Equity Fund II, LP | ORS Nasco Holding, Inc.
20080322 | Rudolph Technologies, Inc | Applied Precision Holdings, LLC | Applied Precision Holdings, LLC.
20080327 | Live Nation, Inc | Mr. Dell R. Furano | Signatures SNI, Inc.
20080332 | American Industrial Partners Capital Fund IV, L.P | Emerson Electric Co | Brooks Instrument B.V.; Emerson Electric Co.; Emerson Electric Korea Ltd.; Emerson Japan Ltd.; Emerson Process Management Magyarorszag Kft; Mobrey S.A.
20080374 | Sun Capital Partners V, L.P | Darden Restaurants, Inc | GMRI, Inc; GMR Restaurants of Pennsylvania, Inc.; Smokey Bones LLC.
20080380 | Knology, Inc | C. Christopher Dupree | Graceba Total Communications, Inc.
20080383 | William Sauder | Pope & Talbot, Inc | Pope & Talbot, Inc.; Pope & Talbot Ltd.; Pope & Talbot Lumber Sales, Inc.; Pope & Talbot Spearfish Limited Partnership.
20080385 | Sanofi-Aventis | Regeneron Pharmaceuticals, Inc | Regeneron Pharmaceuticals, Inc.
20080387 | Valitas Equity LLC | Madison Dearborn Capital Partners, LP | Valitas Health Services, Inc.
20080389 | General Electric Company | Southwestern Energy Company | Arkansas Western Gas Company.
20080396 | Versa Capital Fund I, LP | InPhonic, Inc | InPhonic, Inc.
20080397 | Nirma Limited | Sun Capital Partners III QP, LP | Searles Valley Minerals Inc.; Searles Valley Minerals Operations Inc.
20080406 | MarkWest Energy Partners, LP | MarkWest Hydrocarbon, Inc | MarkWest Hydrocarbon, Inc.
Transactions Granted Early Termination—12/18/2007
20080336 | Getinge AB | Boston Scientific Corporation | AFx LLC; CardioThoracic Systems LLC; Origin Medsystems LLC.
20080337 | Trian Star Trust | The Cheesecake Factory Incorporated | The Cheesecake Factory Incorporated.
20080355 | Inverness Medical Innovations, Inc | ParadigmHealth, Inc | ParadigmHealth, Inc.
20080407 | Odyssey Investment Partners Fund III, LP | American Capital Strategies, Ltd | Ranpak Inc.
Transactions Granted Early Termination—12/19/2007
20080299 | Deffenbaugh Disposal, Inc | The Ronald D. Deffenbaugh Irrevocable Trust of 2007 | Deffenbaugh Industries, Inc.
20080357 | GCA Holdings Corporation | Savvian, LLC | Savvian, LLC.
20080399 | Motorola, Inc | Vertex Standard Co. Ltd | Vertex Standard Co. Ltd.
20080401 | Borse Dubai Limited | The Nasdaq Stock Market, Inc | The Nasdaq Stock Market, Inc.
20080405 | C.R. Bard, Inc | Edwards Lifesciences Corporation | Edwards Lifesciences A.G.; Edwards Lifesciences LLC.
20080410 | Littlejohn Fund II, LP | Rodney P. Hunt | RS Information Systems, LLC.
Transactions Granted Early Termination—12/20/2007
20071179 | Google Inc | Hellman & Friedman Capital Partners V, LP | Click Holding Corp.
20071755 | Barry Diller | Paciolan, Inc | Paciolan, Inc.
20080339 | VT Group plc | AEPCO, Inc | AEPCO, Inc.
20080341 | Donata Holding SE | Kelso Investment Associates VII, LP | DLI Holding Corp.
20080384 | KS Vista Trust | KGen Power Corporation | KGen Power Corporation.
20080390 | Robert J. Schlegel | Melton L. Bacon | AAA Manufacturing Stone, Inc.; Colorado Stone Products of Texas, Inc.; Creative Stone Mfg., Inc.; Desert Pumice, Inc.
20080419 | GTCR Fund IX/A, LP | Dubai Aerospace Enterprise (DAE) Ltd | Corporate Jets, Inc.; Piedmont Hawthorne Aviation, LLC; Piedmont/Hawthorne Canada, Inc.
Transactions Granted Early Termination—12/21/2007
20080324 | Leeds Equity Partners IV, LP | GTCO Corporation | GTCO Corporation.
20080400 | The Nasdaq Stock Market, Inc | Philadelphia Stock Exchange, Inc | Philadelphia Stock Exchange, Inc.
20080414 | Macquarie Group Limited | Edward Barlow | Chesapeake Publishing Corporation.
20080416 | Gary Segal | WDF Services Corporation | WDF Services Corporation.
20080426 | Wendel Investissement | WESCO International, Inc | LADD Industries, LLC.
20080427 | Regency Energy Partners, LP | Carlyle/Riverstone CDM Corp. Holdings II, LLC | CDM Resource Management, Ltd.
20080429 | AT&T Inc | Harbor Wireless, LLC | Harbor Wireless, LLC.
20080432 | Liberty Media Corporation | Milestone Partners II, LP | Bodybuilding.com, LLC.; Higher Power Nutrition Common Holdings, LLC.
20080437 | Light Tower Holdings LLC | Quadrangle Capital Partners LP | DataNet Communications Group, Inc.
20080442 | Halyard Capital Fund II, LP | 2000 Riverside Capital Appreciation Fund, LP | HCPro Holdings, Inc.
20080443 | AT&T Inc | Edge Wireless Holding Company, LLC | Edge Wireless, LLC.
20080446 | Tangent Fund Shareholders Trust | Weatherford International Ltd | Weatherford International Ltd.
20080451 | Regency Energy Partners LP | General Electric Company | FrontStreet Hugoton, LLC.
20080456 | SUPERVALU Inc | Albertson's LLC | ABS RM Investor LLC.; ABS RM Lease Investor LLC.; Albertson's LLC.
Transactions Granted Early Termination—12/26/2007
20080363 | PolyOne Corporation | Great Lakes Synergy Corporation | GLS Corporation; GLS International, Inc.
Transactions Granted Early Termination—12/28/2007
20080350 | Multiband Corporation | DirecTECH Holding Company Employee Stock Ownership Trust | DirecTECH Holding Company, Inc.
20080360 | Stichting Gerdau Johannpeter | Quanex Corporation | Quanex Corporation.
20080361 | National Oilwell Varco, Inc | H. Lee Welch, Jr | Welch Power Source, LLC.; Welch Sales and Service, Inc.
Transactions Granted Early Termination—12/31/2007
20080379 | Essentia Health | Dakota Clinic, Ltd | Dakota Clinic, Ltd.
20080388 | VeraSun Energy Corporation | US BioEnergy Corporation | US BioEnergy Corporation.
20080411 | Trian Star Trust | Marsh & McLennan Companies, Inc | Marsh & McLennan Companies, Inc.
20080412 | Trian Partners, LP | Marsh & McLennan Companies, Inc | Marsh & McLennan Companies, Inc.
20080440 | Highland Crusader Fund II, Ltd | ICO Global Communications (Holdings) Limited | ICO Global Communications (Holdings) Limited.

FOR FURTHER INFORMATION CONTACT: Sandra M. Peay, Contact Representative or Renee Hallman, Contact Representative. Federal Trade Commission, Premerger Notification Office, Bureau of Competition, Room H-303, Washington, DC 20580, (202) 326-3100.

By direction of the Commission.
Donald S. Clark,
Secretary.

[FR Doc. 08-77 Filed 01-10-08; 8:45 am]

BILLING CODE 6750-01-M